NUCLEAR REGULATORY COMMISSION

Tennessee Valley Authority

[Docket No. 52-047-ESP; ASLBP No. 17-954-01-ESP-BD02]

Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

Tennessee Valley Authority

Clinch River Nuclear Site Early Site Permit Application

This Board is being established pursuant to a Notice of Hearing published in the Federal Register, see 82 FR 16,436 (Apr. 4, 2017), regarding the May 12, 2016 application filed by Tennessee Valley Authority (TVA), pursuant to subpart A of 10 CFR part 52, for an early site permit for the Clinch River Nuclear Site located in Oak Ridge, Tennessee. Because TVA seeks an early site permit, a “mandatory hearing” will be conducted. See 42 U.S.C. 2239(a)(1)(A); 10 CFR 2.104.

The Board is comprised of the following Administrative Judges:

Paul S. Ryerson, Chairman, Atomic Safety and Licensing Board Panel, U.S. Nuclear Regulatory Commission, Washington, DC 20555-0001;

Dr. Gary S. Arnold, Atomic Safety and Licensing Board Panel, U.S. Nuclear Regulatory Commission, Washington, DC 20555-0001;

Dr. Sue H. Abreu, Atomic Safety and Licensing Board Panel, U.S. Nuclear Regulatory Commission, Washington, DC 20555-0001.

All correspondence, documents, and other materials shall be filed in accordance with the NRC E-Filing rule. See 10 CFR 2.302.

Dated: June 26, 2017.
E. Roy Hawkens,
Chief Administrative Judge, Atomic Safety and Licensing Board Panel, Rockville, Maryland.

[FR Doc. 2017-13942 Filed 6-30-17; 8:45 am]

BILLING CODE 7590-01-P